DEPARTMENT OF ENERGY

Federal Energy Regulatory Commission

[Docket No. PR08-17-000]

Bay Gas Storage Company, Ltd.; Notice of Staff Panel

January 30, 2009.

Take notice that the Commission will convene a staff panel in the above-referenced proceeding on Thursday, February 26, 2009, at 9:30 a.m. (EDT), in a room to be designated at the offices of the Federal Energy Regulatory Commission, 888 First Street, NE., Washington, DC 20426.

This Staff Panel will review the factual basis for Bay Gas's 2008 annual adjustment to its Lost And Unaccounted For (LAUF) gas tracker/true-up mechanism. A previous Commission Order in this docket, 126 FERC ¶ 61,018 (January 12, 2009), ordered this Staff Panel to gather evidence in order to determine whether the updated LAUF recovery percentages reflected in Bay Gas's petition are fair and equitable.

FERC conferences are accessible under section 508 of the Rehabilitation Act of 1973. For accessibility accommodations please send an e-mail to accessibility@ferc.gov or call toll free (866) 208-3372 (voice) or 202-502-8659 (TTY), or send a fax to 202-208-2106 with the required accommodations.

All interested persons are permitted to attend. For further information please contact Vince Mareino at (202) 502-6167 or e-mail Vince.Mareino@ferc.gov.

Kimberly D. Bose,
Secretary.

[FR Doc. E9-2525 Filed 2-5-09; 8:45 am]

BILLING CODE 6717-01-P